DEPARTMENT OF HEALTH AND HUMAN SERVICES

National Institutes of Health

Center for Scientific Review; Amended Notice of Meeting

Notice is hereby given of a change in the meeting of the Motor Function, Speech and Rehabilitation Study Section, October 21, 2013, 08:00 a.m. to October 21, 2013, 06:00 p.m., The Mandarin Oriental, 1330 Maryland Avenue SW., Washington, DC 20024, which was published in the Federal Register on September 26, 2013, 78 FR 187 Pgs. 59361-59362.

The meeting will be held at the Renaissance Dupont Circle Hotel, 1143 New Hampshire Ave. NW., Washington, DC 20037. The meeting will start on December 16, 2013 at 8:00 a.m. and end December 16, 2013 at 6:00 p.m. The meeting is closed to the public.

Dated: October 30, 2013.
Program Analyst, Office of Federal Advisory Committee Policy.

[FR Doc. 2013-26425 Filed 11-4-13; 8:45 am]

BILLING CODE 4140-01-P